DEPARTMENT OF TRANSPORTATION

Federal Aviation Administration

Notice of Public Workshops for the Draft Written Re-Evaluation of the O'Hare Modernization Environmental Impact Statement for the Interim Fly Quiet Runway Rotation Plan

AGENCY: Federal Aviation Administration, DOT.

ACTION: Notice of Public Workshops for the Draft Written Re-Evaluation of the O'Hare Modernization Environmental Impact Statement for the Interim Fly Quiet Runway Rotation Plan.

SUMMARY: The Federal Aviation Administration (FAA) announces its intent to host Public Workshops for the Draft Written Re-Evaluation of the O'Hare Modernization Environmental Impact Statement (Draft Re-Evaluation) for the Interim Fly Quiet Runway Rotation Plan for Chicago O'Hare International Airport, Chicago, Illinois.

The Draft Re-Evaluation will identify the potential environmental impacts associated with the Proposed Interim Fly Quiet at O'Hare International Airport pursuant to the National Environmental Policy Act.

The FAA will host Public Workshops on the Draft Re-Evaluation. The Public Workshops on the Draft Re-Evaluation will be held on the following dates: Monday, February 4, 2019, at Belvedere Events and Banquets, 1170 West Devon Avenue, Elk Grove Village, Illinois 60007; Tuesday, February 5, 2019, at White Eagle Banquets, 6839 North Milwaukee Avenue, Niles, Illinois 60714; Wednesday, February 6, 2019, at Hanging Gardens Banquet Rooms, 8301 West Belmont Avenue, River Grove, Illinois 60171; and Thursday, February 7, 2019, at The Diplomat West, 681 West North Avenue, Elmhurst, Illinois 60126. Each Public Workshop will start at 2 p.m. (Central Standard Time), and registration to participate in the Public Workshops will conclude by 8 p.m. (Central Standard Time).

Representatives of FAA and its consultants will be available to provide information about the Draft Re-Evaluation. Spanish language translators will be available at the Public Workshops. If you need the assistance of a translator, other than Spanish, please call Ms. Amy Hanson at (847) 294-7354 by January 18, 2019.

The Draft Re-Evaluation will be available for review on line at (http://www.faa.gov/airports/airport_evelopment/omp/ifq_re_eval/) and at libraries around O'Hare International Airport. The FAA will issue a separate notice at the time the Draft Re-Evaluation is available.

Issued in Des Plaines, IL
December 13, 2018.
Deb Bartell,
Manager, Chicago Airports District Office.

[FR Doc. 2018-28115 Filed 12-26-18; 8:45 am]

BILLING CODE 4910-13-P